DEPARTMENT OF AGRICULTURE

Rural Business-Cooperative Service

Notice of Request for Extension of Currently Approved Information Collection

AGENCY: Rural Business-Cooperative Service, USDA.

ACTION: Proposed collection; comments requested.

SUMMARY: In accordance with the Paperwork Reduction Act of 1995, this notice announces the Rural Business-Cooperative Service's (RBS) intention to request an extension for a currently approved information collection in support of the program at 7 CFR part 4284, Subpart F, Rural Cooperative Development Grant program.

DATES: Comments on this notice must be received by July 8, 2013 to be considered.

FOR FURTHER INFORMATION CONTACT: Mr. Chadwick O. Parker, Deputy Administrator, Cooperative Programs, Rural Development, USDA, STOP 3252, Room 4016-South, 1400 Independence Avenue SW., Washington, DC 20250-3252. Telephone: (202) 720-7558, Email: chad.parker@wdc.usda.gov.

SUPPLEMENTARY INFORMATION:

Title: Rural Cooperative Development Grants.

OMB Number: 0570-0006.

Expiration Date of Approval: September 30, 2013.

Type of Request: Extension of currently approved information collection.

Abstract: Rural Cooperative Development Grant program applicants must provide required information to demonstrate eligibility for the program and compliance with applicable laws and regulations. Grantees are required to provide progress reports for the duration of the grant agreement to ensure continued compliance and to measure the success of the program.

Estimate of Burden: Public reporting burden for this collection is estimated to average 30 hours per response.

Estimated Number of Respondents: 73

Estimated Number of Responses per Respondent: 1

Estimated Number of Responses: 295

Estimated Total Burden on Respondents: 8,911 hours

Copies of this information collection can be obtained from Jeanne Jacobs, Regulations and Paperwork Management Branch, at (202) 692-0042.

Comments

Comments are invited on: (a) Whether the proposed collection of information is necessary for the proper performance of RBS functions, including whether the information will have practical utility; (b) the accuracy of RBS' estimate of the burden of the proposed collection of information, including the validity of the methodology and assumptions used; (c) ways to enhance the quality, utility, and clarity of the information to be collected; and (d) ways to minimize the burden of the collection of information on those who are to respond, including through the use of appropriate automated, electronic, mechanical, or other technological collection techniques or other forms of information technology. Comments may be sent to Jeanne Jacobs, Regulations and Paperwork Management Branch, U.S. Department of Agriculture, Rural Development, Stop 0742, 1400 Independence Ave. SW., Washington, DC 20250. All responses to this notice will be summarized and included in the request for OMB approval. All comments will also become a matter of public record.

Dated: April 29, 2013.
Lillian Salerno,
Acting Administrator, Rural Business-Cooperative Service.

[FR Doc. 2013-10785 Filed 5-6-13; 8:45 am]

BILLING CODE 3410-XY-P